DEPARTMENT OF THE INTERIOR

Fish and Wildlife Service

[FWS-R6-ES-2014-N145; FXRS1261XPSAGEG-145-FF06E13000]

Endangered and Threatened Wildlife and Plants; Enhancement of Survival Permit Applications; Greater Sage-Grouse Umbrella Candidate Conservation Agreement With Assurances for Wyoming Ranch Management

AGENCY: Fish and Wildlife Service, Interior.

ACTION: Notice of availability; request for comments.

SUMMARY: We, the U.S. Fish and Wildlife Service (Service), have received applications for enhancement of survival permits (EOS permits) under section 10(a)(1)(A) of the Endangered Species Act of 1973, as amended (Act), pursuant to the Greater Sage-grouse Umbrella Candidate Conservation Agreement with Assurances for Wyoming Ranch Management (Umbrella CCAA). The permit applications, if approved, would authorize incidental take associated with implementation of specified individual Candidate Conservation Agreements with Assurances (individual CCAAs) developed in accordance with the Umbrella CCAA. We invite the public to comment on the EOS permit applications set out below. The Act requires that we invite public comment before issuing these permits.

DATES: To ensure consideration, please send your written comments by October 6, 2014.

ADDRESSES: Submitting Comments: Send written comments by one of the following methods. Please specify the permit(s) you are commenting on by relevant number(s) (e.g., Permit No. TE-XXXXXX).

• U.S. mail: Tyler Abbott, Wyoming Ecological Services Field Office (ESFO), U.S. Fish and Wildlife Service, 5353 Yellowstone Road, Suite 308A, Cheyenne, WY 82009.

• Email: tyler_abbott@fws.gov.

• Fax: Tyler Abbott, (307) 772-2358.

Reviewing Documents: You may review copies of the enhancement of survival permit applications during regular business hours at the Wyoming ESFO (see address above). You may also request hard copies by telephone at (307) 772-2374, ext. 231, or by letter to the Wyoming ESFO. Please specify the permit(s) you are interested in by relevant number(s) (e.g., Permit No. TE-XXXXXX).

FOR FURTHER INFORMATION CONTACT: Tyler Abbott, U.S. Fish and Wildlife Service, (307) 772-2374, ext. 231 (phone); tyler_abbott@fws.gov (email).

SUPPLEMENTARY INFORMATION:

Background

A Candidate Conservation Agreement with Assurances is an agreement with the Service in which private and other non-Federal landowners voluntarily agree to undertake management activities and conservation efforts on their properties to enhance, restore, or maintain habitat to benefit species that are proposed for listing under the Act, that are candidates for listing, or that may become candidates. The Service and several State, Federal, and local partners developed the Umbrella CCAA (available at http://www.fws.gov/wyominges) to provide Wyoming ranchers with the opportunity to voluntarily conserve greater sage-grouse and its habitat while carrying out their ranching activities. The Umbrella CCAA was made available for public review and comment on February 7, 2013 (see 78 FR 9066), and was executed by the Service on November 8, 2013.

Pursuant to the Umbrella CCAA, ranchers in Wyoming may apply for an EOS permit under the Act by agreeing to implement certain conservation measures for the greater sage-grouse on their properties. These conservation measures are specified in individual CCAAs for their properties, which are developed in accordance with the Umbrella CCAA and are subject to the terms and conditions stated in that agreement. Landowners consult with the Service and other participating agencies to develop an individual CCAA for their property, and submit it to the Service for approval with their EOS permit application. If we approve the individual CCAA and EOS permit application, we will issue an EOS permit, under section 10(a)(1)(A) of the Act (16 U.S.C. 1531 et seq.), that authorizes incidental take of greater sage-grouse that results from activities covered by the individual CCAA, should the species become listed. Through the Umbrella CCAA and the individual CCAA and EOS permit, we also provide assurances to participating landowners that, if the greater sage-grouse is listed, and so long as they are properly implementing their individual CCAA, we will not require any conservation measures with respect to greater sage-grouse in addition to those provided in the individual CCAA or impose additional land, water, or financial commitments or restrictions on land, water, or resource use in connection with the species. The EOS permit would become effective on the effective date of listing of the greater sage-grouse as endangered or threatened and would continue through the end of the individual CCAA's 20-year term. Regulatory requirements and issuance criteria for EOS permits through a CCAA are found in 50 CFR 17.22(d) and 17.32(d), as well as 50 CFR part 13.

Applications Available for Review and Comment

We invite local, State, and Federal agencies and the public to comment on the following EOS permit applications. The Umbrella CCAA, as well as the individual CCAAs submitted with the permit applications, are also available for review, subject to the requirements of the Privacy Act (5 U.S.C. 552a) and Freedom of Information Act (5 U.S.C. 552). The following applicants request approval of EOS permits for the greater sage-grouse, pursuant to the Umbrella CCAA, for the purpose of enhancing the species' survival.

Permit Application Number TE32286B

Applicant: Bousman Livestock, Inc., Sublette County, Wyoming.

Permit Application Number TE32288B

Applicant: G&E Livestock, Inc., Sublette County, Wyoming.

Permit Application Number TE40466B

Applicant: Blaha Ranch, Inc., Sublette County, Wyoming.

Permit Application Number TE40464B

Applicant: Boroff Land and Livestock, Sublette County, Wyoming.

Permit Application Number TE40467B

Applicant: Pape Ranches, Inc., Sublette County, Wyoming.

Permit Application Number TE40478B

Applicant: Donald W. Rogers, Jr., Sublette County, Wyoming.

Permit Application Number TE40463B

Applicant: HIP Investments LLC, Johnson County, Wyoming.

Permit Application Number TE40602B

Applicant: Merlin Ranch, Johnson County, Wyoming.

Permit Application Number TE42567B

Applicant: Longreach Buffalo Company LLC, Campbell County, Wyoming.

Public Availability of Comments

All comments and materials we receive in response to these requests will become part of the public record, and will be available for public inspection, by appointment, during normal business hours at the address listed in the ADDRESSES section of this notice.

Before including your address, phone number, email address, or other personal identifying information in your comment, you should be aware that your entire comment, including your personal identifying information, may be made publicly available at any time. While you can ask us in your comment to withhold your personal identifying information from public review, we cannot guarantee that we will be able to do so.

Authority

We provide this notice under section 10(c) of the Act (16 U.S.C. 1539(c)).

Dated: August 15, 2014.
Michael G. Thabault,
Assistant Regional Director, Mountain-Prairie Region.

[FR Doc. 2014-21023 Filed 9-3-14; 8:45 am]

BILLING CODE 4310-55-P